DEPARTMENT OF COMMERCE

International Trade Administration

United States Travel and Tourism Advisory Board; Teleconference Meeting

AGENCY: International Trade Administration, U.S. Department of Commerce.

ACTION: Notice of an open teleconference meeting.

SUMMARY: The United States Travel and Tourism Advisory Board (Board) will hold a teleconference meeting to deliberate upon industry input and priorities to provide the Secretary of Commerce in his role as co-chair of the Task Force on Travel and Competitiveness (Task Force), established by Executive Order 13597 Establishing Visa and Foreign Visitor Processing Goals and the Task Force on Travel and Competitiveness, as the Task Force works to develop a National Travel and Tourism Strategy (Strategy). The Executive Order was issued by President Barack Obama on January 19, 2012.

DATES: Thursday, March 1, 2012, 11 a.m.-12 p.m. EST

Teleconference Information: Toll Free Number: 800-369-1703. Passcode: 1860176.

All guests are requested to register in advance. Requests for auxiliary aids or pre-registration should be submitted no later than February 22, 2012 to Jennifer Pilat, the United States Travel and Tourism Advisory Board, Room 4043, 1401 Constitution Avenue NW., Washington, DC 20230, telephone 202-482-4501, oacie@trade.gov. Last minute requests will be accepted, but may be impossible to fill.

FOR FURTHER INFORMATION CONTACT: Jennifer Pilat, the United States Travel and Tourism Advisory Board, Room 4043, 1401 Constitution Avenue NW., Washington, DC 20230, telephone: 202-482-4501, email: oacie@trade.gov.

SUPPLEMENTARY INFORMATION: On January 19, 2012, President Obama signed Executive Order 13597, Establishing Visa and Foreign Visitor Processing Goals and the Task Force on Travel and Competitiveness. Section 3, subsection (c) of the Executive Order charges the Task Force to develop a Strategy with recommendations for new policies and initiatives to promote domestic and international travel opportunities throughout the United States with the goal of increasing the United States market share of worldwide travel, including obtaining a greater share of long-haul travel from Brazil, China, and India.

Such recommendations shall include, among other things, strategies to promote visits to the United States public lands, waters, shores, monuments, and other iconic American destinations, thereby expanding job creation in the United States. The Task Force shall also consider recommendations to promote and expand travel and tourism opportunities in rural communities. In addition, the Strategy shall identify any barriers to increasing the United States market share of worldwide travel, and any other related areas of concern. The Executive Order indicates that the Secretary of Commerce shall consider the Board's advice in his role with the Task Force. The Task Force shall deliver the Strategy to the President within 90 days of the date of the Executive Order.

The Executive Order is available at: https://www.federalregister.gov/articles/2012/01/24/2012-1568/establishing-visa-and-foreign-visitor-processing-goals-and-the-task-force-on-travel-and#p-1.

The United States Travel and Tourism Advisory Board was re-chartered on August 29, 2011, to advise the Secretary of Commerce on matters relating to the U.S. travel and tourism industry.

While members of the public are welcome to call in and listen to the meeting, there will not be sufficient time available for oral comments from members of the public. Any member of the public may submit pertinent written comments at any time before or after the meeting. Comments may be submitted to Jennifer Pilat at the contact information indicated above. To be considered during the meeting, comments must be received no later than 5 p.m. Eastern Time on February 23, 2012, to ensure transmission to the Board prior to the meeting. In addition to comments for the Board's consideration, the public may provide comment on the National Travel and Tourism Strategy as noted in a separate Federal Register Notice.

Dated: February 10, 2012.
Jennifer Pilat,
Executive Secretary, the United States Travel and Tourism Advisory Board.

[FR Doc. 2012-3564 Filed 2-14-12; 8:45 am]

BILLING CODE 3510-DR-P